DEPARTMENT OF HOMELAND SECURITY

Federal Emergency Management Agency

44 CFR Part 65

[Docket ID FEMA-2012-0003; Internal Agency Docket No. FEMA-B-1248]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Associate Administrator for Mitigation reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Mobile | Unincorporated areas of Mobile County (11-04-1740P) | November 24, 2011; December 1, 2011; The Press-Register | The Honorable Connie Hudson, President, Mobile County Commission, 205 Government Street, Mobile, AL 36644 | March 30, 2012 | 015008
Connecticut: Hartford | Town of West Hartford (10-01-2143P) | October 13, 2011; October 20, 2011; The Hartford Courant | The Honorable Scott Slifka, Mayor, Town of West Hartford, 50 South Main Street, West Hartford, CT 06107 | October 3, 2011 | 095082
Florida:
Broward | City of Deerfield Beach (12-04-0283P) | December 2, 2011; December 9, 2011; The Sun-Sentinel | The Honorable Peggy Noland, Mayor, City of Deerfield Beach, 150 Northeast 2nd Avenue, Deerfield Beach, FL 33441 | November 22, 2011 | 125101
Broward | Town of Lauderdale-By-The-Sea (11-04-7642P) | November 3, 2011; November 10, 2011; The Sun-Sentinel | The Honorable Roseann Minnet, Mayor, Town of Lauderdale-By-The-Sea, 4501 Ocean Drive, Lauderdale-By-The-Sea, FL 33308 | October 26, 2011 | 125123
Idaho:
Shoshone | City of Osburn (11-10-1374P) | October 27, 2011; November 3, 2011; The Shoshone News Press | The Honorable Robert McPhail, Mayor, City of Osburn, 921 East Mullan Avenue, Osburn, ID 83849 | March 2, 2012 | 160116
Shoshone | Unincorporated areas of Shoshone County (11-10-1374P) | October 27, 2011; November 3, 2011; The Shoshone News Press | Mr. Jon Cantamessa, Shoshone County Commissioner, District 3, 700 Bank Street, Suite 120, Wallace, ID 83873 | March 2, 2012 | 160114
Illinois:
Grundy | Unincorporated areas of Grundy County (11-05-8349P) | October 26, 2011; November 2, 2011; The Paper | Mr. Ron Severson, Grundy County, Chairman of the Board, 1320 Union Street, Morris, IL 60450 | November 10, 2011 | 170256
Grundy and Livingston | Village of Dwight (11-05-8349P) | October 26, 2011; November 2, 2011; The Paper | Mr. Bill Wilkey, Village of Dwight President, 209 South Prairie Avenue, Dwight, IL 60420 | November 10, 2011 | 170423
Iowa: Story | City of Ames (11-07-1005P) | October 27, 2011; November 3, 2011; The Ames Tribune | The Honorable Ann Campbell, Mayor, City of Ames, P.O. Box 811, 515 Clark Avenue, Ames, IA 50010 | March 2, 2012 | 190254
Oregon: Deschutes | Unincorporated areas of Deschutes County (11-10-1524P) | November 29, 2011; December 6, 2011; The Bend Bulletin | Mr. Erik Kropp, Interim Deschutes County Administrator, 1300 Northwest Wall Street, 2nd Floor, Bend, OR 97701 | April 4, 2012 | 410055
Texas: Hays | City of Buda (11-06-4776P) | December 7, 2011; December 14, 2011; The Hays Free Press | The Honorable Sarah Mangham, Mayor, City of Buda, 121 Main Street, Buda, TX 78610 | April 12, 2012 | 481640
Washington: King County | City of Burien (11-10-0033P) | October 28, 2011; November 4, 2011; The Highline Times | The Honorable Joan McGilton, Mayor, City of Burien, 400 Southwest 152nd Street, Suite 300, Burien, WA 98166 | November 4, 2011 | 530321
Wisconsin:
Calumet | City of Brillion (11-05-3616P) | October 27, 2011; November 3, 2011; The Zander Press | The Honorable Gary Deiter, Mayor, City of Brillion, 225 Apollo Court, Brillion, WI 54110 | March 2, 2012 | 550036
Calumet | Unincorporated areas of Calumet County (11-05-3616P) | October 27, 2011; November 3, 2011; The Zander Press | Mr. Jay Shambeau, Calumet County Administrator, 206 Court Street, Chilton, WI 53014 | March 2, 2012 | 550035
Manitowoc | Unincorporated areas of Manitowoc County (11-05-7812P) | November 7, 2011; November 14, 2011; The Herald Times Reporter | Mr. Bob Ziegelbauer, Manitowoc County Executive, Manitowoc County Courthouse, 1010 South 8th Street, Manitowoc, WI 54220 | October 28, 2011 | 550236

(Catalog of Federal Domestic Assistance No. 97.022, “Flood Insurance.”)
Dated: March 15, 2012.
Sandra K. Knight,
Deputy Associate Administrator for Mitigation, Department of Homeland Security, Federal Emergency Management Agency.

[FR Doc. 2012-8406 Filed 4-6-12; 8:45 am]

BILLING CODE 9110-12-P